DEPARTMENT OF THE INTERIOR

Bureau of Land Management

[WO-300-1330-EO]

Notice of a 30-Day Public Comment Period To Affirm the Policy for the Standards To Establish the Potash Enclave as Used To Administer the Secretarial Order of 1986 Entitled “Oil and Gas and Potash Leasing and Development Within the Designated Potash Area of Eddy and Lea Counties, New Mexico”

AGENCY: Bureau of Land Management, Interior.

ACTION: Notice.

SUMMARY: This notice solicits public comments on the report which affirms the existing policy on the criteria used to establish the potash enclave.

DATES: Comments should be submitted to the address below no later than September 29, 2005.

ADDRESSES: Written comments should be addressed to Group Manager, Solid Minerals, 1620 L. St. NW., Mail Stop 501 LS, Washington DC 20036.

FOR FURTHER INFORMATION CONTACT: David Stewart, Mining Engineer, 1620 L. St. NW., Mail Stop 501 LS, Washington, DC 20036, telephone (202) 452-0310.

SUPPLEMENTARY INFORMATION:

I. Background

The Department of the Interior (DOI) has a long history of administering the concurrent development of the oil and gas and potash deposits owned by the United States in Eddy and Lea counties, New Mexico. The BLM is the agency within the DOI responsible for these activities. There is an interest in exploring for oil and gas in parts of the area containing the potash reserves (potash enclave). The Secretarial Order (SO), published in the Federal Register dated October 28, 1986 entitled, “Oil and Gas and Potash Development within the Designated Potash Area of Eddy and Lea Counties,” was developed to administer the development of these resources.

The order, in Yates Petroleum Corp., et al., IBLA No. 92-612, was issued pursuant to an appeal filed by Yates Petroleum Corp., et al. concerning decisions to deny the approval to drill certain oil and gas wells by the BLM pursuant to the SO. In her opinion, the Administrative Law Judge stated, “The record does not support a conclusion that the standards of four (4) feet of 10 percent K2O as sylvite and four (4) feet of 4 percent K2O as langbeinite, or a combination of the two, as defined by Van Sickle in 1974, continue to identify the thickness and quality of potash which is mineable under existing technology and economics” as required by the SO. The BLM has the same concerns and prepared the report referenced in this notice.

II. Report, Entitled “Potash Enclave Mineral Report”

The report may be viewed at the following site on the Internet, http://www.blm.gov/nhp/300/wo320/potash.pdf. A hard copy may be requested from the contact for further information above.

Thomas Lonnie,
Assistant Director, Minerals, Realty and Resource Protection.

[FR Doc. 05-17176 Filed 8-29-05; 8:45 am]

BILLING CODE 4310-FB-P